DEPARTMENT OF HOMELAND SECURITY

8 CFR Parts 214 and 274a

[CIS No. 2731-22, DHS Docket No. USCIS-2022-0015]

RIN 1615-AC82

DEPARTMENT OF LABOR

Employment and Training Administration

20 CFR Part 655

[DOL Docket No. ETA-2022-0008]

RIN 1205-AC14

Exercise of Time-Limited Authority To Increase the Numerical Limitation for FY 2023 for the H-2B Temporary Nonagricultural Worker Program and Portability Flexibility for H-2B Workers Seeking To Change Employers; Correction

AGENCY: U.S. Citizenship and Immigration Services (USCIS), Department of Homeland Security (DHS), and Employment and Training Administration and Wage and Hour Division, U.S. Department of Labor (DOL).

ACTION: Temporary rule; correction and correcting amendment.

SUMMARY: On December 15, 2022, the Department of Homeland Security and Department of Labor jointly published a temporary rule titled “Exercise of Time-Limited Authority to Increase the Numerical Limitation for FY 2023 for the H-2B Temporary Nonagricultural Worker Program and Portability Flexibility for H-2B Workers Seeking to Change Employers.” The temporary rule contains errors that this document corrects.

DATES: Effective on December 21, 2022.

FOR FURTHER INFORMATION CONTACT: Charles L. Nimick, Chief, Business and Foreign Workers Division, Office of Policy and Strategy, U.S. Citizenship and Immigration Services, Department of Homeland Security, 5900 Capital Gateway Drive, Camp Springs, MD 20746; telephone 240-721-3000 (this is not a toll-free number).

SUPPLEMENTARY INFORMATION: In the temporary rule, FR Doc. 2022-27236, beginning on page 76816 in the issue of Thursday, December 15, 2022, make the following corrections:

1. On page 76816, in the first column, the DOL docket is corrected to read “[DOL Docket No. ETA 2022-0008]”.

2. On page 76829, in the third column, in footnote 93, the citation to “(h)(6)(xii)(A)(1)(b)” is corrected to read “(h)(6)(xiii)(A)(1)(ii)”.

3. On page 76830, in the second column, in footnote 94, the citation to “(h)(6)(xii)(A)(1)(c)” is corrected to read “(h)(6)(xiii)(A)(1)(iii)”.

4. On page 76831, in the second column, in footnote 100, the citation to “(h)(6)(xii)(A)(2)” is corrected to read “(h)(6)(xiii)(A)(2)”.

5. On page 76840, in the third column, in footnote 142, the citation to “Notification of Temporary Travel Restrictions Applicable to Land Ports of Entry and Ferries Service Between the United States and Mexico, 87 FR 24048 (Apr. 22, 2022)” is corrected to read “Notification of Temporary Travel Restrictions Applicable to Land Ports of Entry and Ferries Service Between the United States and Canada, 87 FR 24048 (Apr. 22, 2022)”.

List of Subjects in 8 CFR Part 214

Administrative practice and procedure, Aliens, Cultural exchange program, Employment, Foreign officials, Health professions, Reporting and recordkeeping requirements, Students.

Accordingly, 8 CFR part 214 is corrected by making the following correcting amendments:

DEPARTMENT OF HOMELAND SECURITY

PART 214—NONIMMIGRANT CLASSES

1. The authority citation for part 214 continues to read as follows:

Authority: 6 U.S.C. 202, 236; 8 U.S.C. 1101, 1102, 1103, 1182, 1184, 1186a, 1187, 1221, 1281, 1282, 1301-1305, 1357, and 1372; sec. 643, Pub. L. 104-208, 110 Stat. 3009-708; Pub. L. 106-386, 114 Stat. 1477-1480; section 141 of the Compacts of Free Association with the Federated States of Micronesia and the Republic of the Marshall Islands, and with the Government of Palau, 48 U.S.C. 1901 note and 1931 note, respectively; 48 U.S.C. 1806; 8 CFR part 2; Pub. L. 115-218, 132 Stat. 1547 (48 U.S.C. 1806).

§ 214.2 [Amended]

2. In § 214.2:

a. In paragraph (h)(6)(xiii)(C)(1), remove the citation “(h)(6)(xiii)(A)(1)(a)” and add “(h)(6)(xiii)(A)(1)(i)” in its place.

b. In paragraph (h)(6)(xiii)(C)(2), remove the citation “(h)(6)(xii)(A)(1)(ii)” and add “(h)(6)(xiii)(A)(1)(ii)” in its place.

Christina E. McDonald,
Federal Register Liaison, U.S. Department of Homeland Security.
Laura Dawkins,
Federal Register Liaison, U.S. Department of Labor.

[FR Doc. 2022-27804 Filed 12-20-22; 8:45 am]

BILLING CODE 9111-97-P